DEPARTMENT OF TRANSPORTATION

Office of the Secretary

Privacy Act of 1974: System of Records

AGENCY: Federal Motor Carrier Safety Administration, U.S. Department of Transportation.

ACTION: Rescindment of a system of records notice.

SUMMARY: In accordance with the Privacy Act of 1974, the Department of Transportation proposes to rescind a system of records under the Privacy Act of 1974 entitled DOT/FMCSA 006 SAFETYNET. This system of records facilitates authorized sharing of Department of Transportation Federal Motor Carrier Administration records of companies and drivers of commercial motor vehicles and shipping and freight-forwarding companies registered with FMCSA collected and maintained in the Motor Carrier Information Management System (MCMIS).

DATES: Written comments should be submitted on or before January 29, 2020. The Department may publish an amended SORN in light of any comments received. This new system will be effective January 29, 2020.

ADDRESSES: You may submit comments, identified by docket number Docket No. INSERT: Docket Number, by one of the following methods:

• Federal e-Rulemaking Portal: http://www.regulations.gov. Follow the instructions for submitting comments.

• Mail: Docket Management Facility, Department of Transportation, 1200 New Jersey Ave. SE, West Building Ground Floor, Room W12-140, Washington, DC 20590.

• Hand Delivery or Courier: West Building Ground Floor, Room W12-140, 1200 New Jersey Ave. SE, between 9 a.m. and 5 p.m. ET, Monday through Friday, except Federal Holidays.

• Fax: 202-493-2251.

Instructions: All submissions received must include the agency name and docket number insert docket number. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: For general questions, please contact: Director, Office of Information Technology, FMCSA, 1200 New Jersey Avenue SW, Washington, DC 20590. For privacy issues, please contact: Claire W. Barrett, Departmental Chief Privacy Officer, Department of Transportation, Washington, DC 20590, (202-366-8135, privacy@dot.gov).

SUPPLEMENTARY INFORMATION: FMCSA uses SAFETYNET to share records maintained in the Motor Carrier Information Management System (MCMIS) with FMCSA field offices and state and local law enforcement officials. These records contain information on companies and drivers of commercial motor vehicles and shipping and freight-forwarding companies registered with FMCSA. In addition, some state and or local law enforcement entities may maintain complaint records in their local versions of SAFETYNET, however those records are not federal records and are outside the bounds of the Department's Privacy Act notices. FMCSA does not maintain complaint information in SAFETYNET. MCMIS is the authoritative system of records for these records and is covered by the Privacy Act system of records notice DOT/FMCSA-001, Motor Carrier Information Management System. All records in SAFETYNET are inputs to or duplicate copies of MCMIS records subject to the DOT/FMCSA-001 system of records notice, therefore a separate notice is not required. Records transmitted to MCMIS via SAFETYNET and the authoritative copy received from MCMIS will continue to be updated on a daily basis. The rescindment of this notice ensures that the Department applies the fair information practice principles and Privacy Act protections afforded by the MCMIS notice in a consistent manner.

SYSTEM NAME AND NUMBER:

DOT/FMCSA 006, SAFETYNET.

HISTORY:

71 FR 35727, June 21, 2006.

Issued in Washington, DC.
Claire W. Barrett,
Chief Privacy Officer.

[FR Doc. 2019-28099 Filed 12-27-19; 8:45 am]

BILLING CODE 4901-9X-P